DEPARTMENT OF TRANSPORTATION

Research and Special Programs Administration

[Docket No. RSPA-2004-16964 (Notice No. 04-8)]

Notice of Information Collection Approval

AGENCY: Research and Special Programs Administration (RSPA), DOT.

ACTION: Notice of information collection approval.

SUMMARY: This notice announces Office of Management and Budget (OMB) approval and extension until July 31, 2007 for the following information collection requests (ICRs): OMB No. 2137-0018, “Inspection and Testing of Portable Tanks and Intermediate Bulk Containers”; OMB No. 2137-0039, “Hazardous Materials Incidents Reports”; OMB No. 2137-0572, “Testing Requirements for Non-Bulk Packagings”; and OMB No. 2137-0595, “Cargo Tank Motor Vehicles in Liquefied Compressed Gas Service.”

In addition, this notice announces OMB approval and extension until November 30, 2007 for the following ICRs: OMB No. 2137-0014, “Cargo Tank Specification Requirements”; OMB No. 2137-0542, “Flammable Cryogenic Liquids”; OMB No. 2137-0582, “Container Certification Statements”; OMB No. 2137-0586, “Hazardous Materials Public Sector Training and Planning Grants”; and OMB No. 2137-0591, “Response Plans for Shipments of Oil.”

DATES: The expiration dates for these ICRs are July 31, 2007 and or November 30, 2007.

ADDRESSES: Requests for a copy of an information collection should be directed to Deborah Boothe or T. Glenn Foster, Office of Hazardous Materials Standards (DHM-10), Research and Special Programs Administration, Room 8422, 400 Seventh Street, SW., Washington, DC 20590-0001.

FOR FURTHER INFORMATION CONTACT: Deborah Boothe or T. Glenn Foster, Office of Hazardous Materials Standards (DHM-10), Research and Special Programs Administration, Room 8422, 400 Seventh Street, SW., Washington, DC 20590-0001, Telephone (202) 366-8553.

SUPPLEMENTARY INFORMATION: Office of Management and Budget (OMB) regulations (5 CFR 1320) implementing provisions of the Paperwork Reduction Act of 1995 (Pub. L. 104-13) require that interested members of the public and affected agencies have an opportunity to comment on information collection and recordkeeping activities (see 5 CFR 1320.8(s)) and specify that no person is required to respond to an information collection unless it displays a valid OMB control number. In accordance with the Paperwork Reduction Act of 1995, RSPA has received OMB approval for renewal of the following ICRs:

OMB Control Number: 2137-0014.

Title: Cargo Tank Specification Requirements.

Expiration Date: November 30, 2007.

OMB Control Number: 2137-0018.

Title: Inspection and Testing of Portable Tanks and Intermediate Bulk Containers.

Expiration Date: July 31, 2007.

OMB Control Number: 2137-0039.

Title: Hazardous Materials Incidents Reports.

Expiration Date: July 31, 2007.

OMB Control Number: 2137-0542.

Title: Flammable Cryogenic Liquids.

Expiration Date: November 30, 2007.

OMB Control Number: 2137-0572.

Title: Testing Requirements for Non-Bulk Packagings.

Expiration Date: July 31, 2007.

OMB Control Number: 2137-0582.

Title: Container Certification Statements.

Expiration Date: November 30, 2007.

OMB Control Number: 2137-0586.

Title: Hazardous Materials Public Sector Training and Planning Grants.

Expiration Date: November 30, 2007.

OMB Control Number: 2137-0591.

Title: Response Plans for Shipments of Oil.

Expiration Date: November 30, 2007.

OMB Control Number: 2137-0595.

Title: Cargo Tank Motor Vehicles in Liquefied Compressed Gas Service.

Expiration Date: July 31, 2007.

These information collection approvals expire on July 31, 2007 or November 30, 2007 as indicated.

Issued in Washington, DC, on November 30, 2004.
Edward T. Mazzullo,
Director, Office of Hazardous Materials Standards.

[FR Doc. 04-26633 Filed 12-2-04; 8:45 am]

BILLING CODE 4910-60-P